DEPARTMENT OF ENERGY

Federal Energy Regulatory Commission

[Docket Nos. RT02-2000; ER01-2997-000; RT01-37-000; ER01-123-000; ER01-2999-000; RT01-84-000; ER02-108-000; RT01-87-000; EL01-116-000; RT01-26-000; RT01-98-000; RM99-2-000; RT01-99-000 and RT01-100-000; RT01-1-000; and ER01-2993-000]

State-Federal Regional Transmission Organization Panels, Dayton Power and Light Company; Illinois Power Company; Midwest Independent System Operator, Inc.; Midwest ISO; Montana-Dakota Utilities Company; Northern Indiana Public Service Company; PJM Interconnection, L.L.C.; Regional Transmission Organizations; Regional Transmission Organizations Informational Filings; Virginia Electric and Power Company; Notice of State-Federal Regional Workshop For the Midwest

June 3, 2002.

On June 24, 2002, from 2:45 p.m. to 4:00 p.m. Central Daylight Time (3:45 p.m. to 5:00 p.m. Eastern Daylight Time), there will be a state-federal workshop on regional transmission organizations for the Midwest. It will be held at the Radisson Inn Bismarck, 800 3rd Street South, Bismarck, North Dakota 58504. The workshop is free and open to the public. It will provide a forum for a dialogue between the state commissions, similar Canadian provincial and national agencies, and the Federal Energy Regulatory Commission. Similar Canadian agencies have regulatory authority comparable to American state regulatory agencies and have a stake in the outcome of the Federal Energy Regulatory Commission's proceedings on regional transmission organizations. Commissioners and staff from the state commissions, the Federal Energy Regulatory Commission, and the Canadian agencies may participate in person or via telephone. The public may attend this discussion on site.

The proposed agenda concerns:

1. Scope and configuration of the Midwest ISO; state commission concerns about the proposed regional transmission organization choices for Alliance companies; identifying the next steps to be taken.

2. Issues pertaining to the creation of a “unified” market between the Southwest Power Pool, Midwest ISO, and PJM Interconnection.

3. The role of state commissions in the planning and governance of regional transmission organizations.

4. State commissioners' views on elements of standard markets: (a) allocation of transmission rights, (b) terms and conditions of power flows, and (c) pricing methodologies for transmission.

5. Policy of the Federal Energy Regulatory Commission on cost recovery for transmission upgrades and expansions.

The panel discussion will be transcribed, and the transcript will be placed in related dockets. Ace-Federal Reporters will provide copies of the transcript at cost. The phone numbers of Ace-Federal Reporters are (800) 336-6646 and (202) 347-3700. Additionally, the Commission will post the transcript on its Web site ten days after receipt from Ace-Federal Reporters.

For additional information, please contact: Sarah McKinley, State Relations, Federal Energy Regulatory Commission, 888 First Street, NE, Washington, DC 20426. (202) 208-2016. Sarah.McKinley@ferc.gov.

Magalie R. Salas,
Secretary.

[FR Doc. 02-14427 Filed 6-7-02; 8:45 am]

BILLING CODE 6717-01-P